DEPARTMENT OF ENERGY

Federal Energy Regulatory Commission

[Project No. 1121-140]

Notice of Effectiveness of Withdrawal of Long-Term Flow Variance (Article 33); Pacific Gas and Electric Company

On June 8, 2023, Pacific Gas and Electric Company (licensee), filed a long-term variance request to remove the current compliance requirement for the ramping rate from license Article 33(d) for the Battle Creek Hydroelectric Project No. 1121. Because the Commission determined that the licensee's request would require an amendment to Article 33(d) of the project license, the Commission issued a public notice for the licensee's request on June 30, 2023. On August 9, 2023, Commission staff requested additional information from the licensee to address comments received from the California State Water Resources Control Board during the public notice period. Finally, on November 14, 2024, the licensee filed a request to withdraw its long-term variance request regarding the license Article 33(d) ramping rate for North Battle Creek Dam.

No motion in opposition to the request for withdrawal has been filed, and the Commission has taken no action to disallow the withdrawal. Pursuant to Rule 216(b) of the Commission's Rules of Practice and Procedure,¹ the withdrawal of the application became effective on November 29, 2024, and this proceeding is hereby terminated.

¹ 18 CFR 385.216(b) (2024).

Dated: December 23, 2024.
Debbie-Anne A. Reese,
Secretary.

[FR Doc. 2024-31435 Filed 12-30-24; 8:45 am]

BILLING CODE 6717-01-P